DEPARTMENT OF AGRICULTURE

Forest Service

Lake Tahoe Basin Management Unit; CA; Meeks Bay Restoration Project

AGENCY: Forest Service, USDA.

ACTION: Notice of intent to prepare an environmental impact statement.

SUMMARY: The USDA Forest Service, Lake Tahoe Basin Management Unit (LTBMU) will prepare an Environmental Impact Statement (EIS) for the Meeks Bay Restoration Project. The LTBMU proposes to conduct restoration and recreation enhancement work at Meeks Bay Resort, Meeks Bay Campground, and in Meeks Creek and Meeks Marina.

DATES: Comments concerning the scope of the analysis must be received by October 26, 2018. The draft EIS is expected August 2019 and the final EIS is expected February 2020.

ADDRESSES: Send written comments to Lake Tahoe Basin Management Unit, 35 College Drive, South Lake Tahoe, CA 96150. Comments may also be sent via email to comments-pacificsouthwest-ltbmu@fs.fed.us, or via facsimile to 530-543-2693. Project information will be posted to the project website http://www.fs.usda.gov/goto/ltbmu/meeksbayrestoration. A public meeting will be held at Meeks Bay Resort, 7941 Emerald Bay Road, Meeks Bay, CA.

FOR FURTHER INFORMATION CONTACT: Gina Thompson, 530-543-2675, gthompson04@fs.fed.us or Denise Downie, 530-543-2683, dedownie@fs.fed.us.

Individuals who use telecommunication devices for the deaf (TDD) may call the Federal Information Relay Service (FIRS) at 1-800-877-8339 between 8 a.m. and 8 p.m., Eastern Time, Monday through Friday.

SUPPLEMENTARY INFORMATION:

Purpose and Need for Action

The deteriorating condition of the existing marina infrastructure, concerns over aquatic invasive species, and concerns over degraded habitat for native species have prompted the need for action in Meeks Bay. The purpose of this project is to move the Meeks Creek stream channel and wetland/lagoon below State Route 89 (SR89) to a more natural condition where geomorphic and hydrologic processes support a functioning ecosystem while continuing to support sustainable recreation opportunities.

There is a need to improve water quality in Meeks Creek; restore degraded aquatic, riparian, and wetland habitats and barrier beaches; provide high quality habitat that is resilient to a changing climate; improve fish passage through the SR 89 stream crossing; control or eradicate current populations of terrestrial and aquatic invasive plant species; maintain and enhance access to Lake Tahoe and National Forest System lands; provide sustainable recreation opportunities consistent with a functioning ecosystem; enhance educational and interpretive opportunities; enhance species of value to the Washoe Tribe of Nevada and California; and promote the Federally protected species Tahoe yellowcress (Rorippa subumbellata) and Lahontan cutthroat trout (Oncorhynchus clarki henshawi).

Proposed Action

All project activities are proposed at the Meeks Bay Resort (7941 Emerald Bay Road, Meesk Bay, CA), the Meeks Bay Campground (just south of Meeks Bay Resort on Emerald Bay Road), in the Meeks Marina located between the two recreation facilities, or in Meeks Creek.

1. Aquatic Invasive Species Eradication: Control or eradicate aquatic invasive species (e.g., warm water fish, American bullfrogs, aquatic invasive weeds) from the proposed project area using manual (chemical free) methods. Treatment of aquatic invasive species is a multi-year effort and the threat of new infestations moving into the area post implementation is high. As a result, monitoring and continued control actions are a key element in long-term success.

2. Remove the existing marina infrastructure: Existing marina infrastructure to be removed includes the concrete boat ramp, steel and concrete sewalls, boulder riprap, the marina office, and other various underground support structures for the marina infrastructure.

3. Restore Meeks Lagoon in the location of the existing marina: Recontour the stream and marina banks to recreate lagoon topography similar to the lagoon that was present before Meeks Marina was constructed. Place natural materials resistant to erosion on the bank slopes. Remove trees up to 30 inches diameter at breast height (dbh) as needed for topography changes. Revegetate with native plant species appropriate to the site. Remove, store, and transplant after construction any Tahoe yellowcress (Rorippa subumbellata) populations as needed to protect plants from project activities.

4. Restore Meeks Creek from the SR 89 crossing to the confluence of Lake Tahoe: Recontour stream banks and reduce stream forces that cause erosion (i.e., realign portions of the stream course). The stream banks would be reconstructed and revegetated with desirable vegetation and would be designed to be in a state of dynamic equilibrium (stream beds and banks are neither accumulating nor eroding excessively). Fell trees up to 30 inches dbh as needed and install large wood in the creek south of SR 89 to improve aquatic habitat. Logs would be anchored in position using natural materials. Install grade control structures that blend visually with the surrounding natural environment. Restoration activities would extend less than ¼ mile upstream from the crossing of Meeks Creek at SR 89.

5. Install Utility Infrastructure: Construct infrastructure to secure the Tahoe City Public Utility District sewer line that crosses Meeks Creek. Relocate powerline infrastructure from within the restoration footprint. Relocate the USFS waterline from Meeks Creek bridge to under the scour limits of the restored Meeks Creek channel. Install or relocate necessary utility infrastructure either above or below ground for project activities, including water, sewer, electric, and communication lines.

6. Implement Resource Protection Barriers: Install new barriers (natural or fenced) in areas of relocated Tahoe yellow cress (Rorippa subumbellata) communities. Natural barriers would include willows or other vegetation screening, downed logs, boulders, or other natural materials.

7. Wildlife Enhancement Actions: Install nest/perch structures for waterfowl, install bat boxes, and plant willow in select locations for willow flycatcher.

8. Construct a Pier: Construct a pier at furthest south end of USFS property in Meeks Bay Campground. The pier would be 12-18 feet wide and accessible via small boats from Lake Tahoe and via a universally accessible walkway on land that would accommodate both day use and boat-in camping opportunities. The pier would allow temporary mooring of 10-20 boats and be up to 300 feet long. Utilities on the pier would accommodate electrical and water. The pier would be designed for access by a maintenance vehicle.

9. Construct a Boat Launch: Construct a double-lane boat launch, marina office, and supporting infrastructure adjacent to the pier. The launch access would be designed to launch boats at water elevation level 6,223 feet and above. Support infrastructure would include an aquatic invasive species inspection station.

10. Reconstruct Trailer Parking and Vehicular Circulation Routes: Construct a boat trailer parking area and vehicular circulation routes as needed within Meeks Bay Campground for the pier and boat launch. Reconstruct and realign day use parking areas and access roads as needed. The capacity of parking spaces dedicated for day use will remain within 20% of existing levels. The capacity of the boat trailer and vehicle parking will be sized to meet the capacity of the pier and boat ramp.

11. Reconstruct Meeks Bay Campground: Reconstruct Meeks Bay Campground (south of Meeks Creek) to include utilities (water, electrical), host sites, restrooms, and a centralized waste dump station. The capacity of the camping units will remain within 20% of existing. Types of campging units constructed may include tent camping sites, full hookup sites, and/or yurt type sites or a combination of these. The campground facilities would be designed to function during the shoulder seasons (i.e. cold-resistant utilities at campsites and restrooms).

12. Install Pedestrian Connectivity Routes: Construct a pedestrian/bike bridge over Meeks Creek to connect Meeks Bay Resort to Meeks Bay Campground. The bridge would be sized to accommodate two-way pedestrian and bicycle traffic, as well as standard vehicle loading for maintenance vehicles. Install an accessible multi-use pathway connecting Meeks Bay Resort commercial core area to the Meeks Bay Campground and the new pier/boat launch. Construct accessible beach access routes using stable, non-eroding materials, from parking areas and access points to the beach that meet Forest Service universal accessibility standards.

13. Install Interpretation Opportunties: Install interpretive opportunities along the lagoon area that highlight restoration activities, history of the Washoe Tribe in Meeks Bay, and species of concern to the Washoe Tribe.

14. Construct Day Use Parking Areas: Construct a day use parking area in the location of the former trailer parking in Meeks Resort to accommodate approximately 20 vehicles and be designed to accommodate Washoe Tribal Elders and other persons with disabilities. Construct the day use parking areas and access routes in Meeks Bay Resort as described in the Meeks Bay Master Plan.

15. Implement Shoreline Stabilization Measures: Remove and replace gabion walls and concrete wall along the north end of Meeks Bay with natural retaining structures that can accommodate beach wave run-up action.

16. Install Best Management Practices: Install permanent Best Management Practices (BMPs) in the parking lot areas, restrooms, and along roadways to capture and infiltrate storm water. Permanent BMPs would be consistent with USFS, Tahoe Regional Planning Agency (TRPA), and Water Board requirements. BMPs would include, but not be limited to, installation of infiltration basins, re-contouring and repaving of the parking areas to ensure proper drainage of storm water off paved surfaces, drip-line trenches, or other means of directing and infiltrating storm water to prevent run-off into Lake Tahoe.

Possible Alternatives

Possible alternatives based on existing public comment and agency input include an alternative that fully reconstructs the existing marina (including supporting infrastructure such as parking areas and utilities). Additional alternatives will be developed based on public comment received during the scoping period.

Responsible Official

Forest Supervisor Jeff Marsolais.

Nature of Decision To Be Made

The responsible official will decide: (1) Whether or not to implement the project activities as described in the proposed action, (2) whether or not to implement the project activities as described in one of the alternatives analyzed in detail, (3) whether to implement a combination of alternatives analyzed in detail, or (4) whether to take no action.

Preliminary Issues

Preliminary issues that have been identified are maintaining access to the existing recreation opportunities on the site, and the potential impacts to the character of Meeks Bay from restoration activities and the relocation of recreation infrastructure.

Permits or Licenses Required

Permits for work in Meeks Creek would be required from the Army Corps of Engineers since the actions are executed in Waters of the US. Permits for project work from the local Water Board would be required. Project permits from the Tahoe Regional Planning Agency would be required. County building permits for the aquatic invasive species inspection station may apply.

Scoping Process

This notice of intent initiates the scoping process, which guides the development of the EIS. A public open house for the project will be held at the Meeks Marina on October 10 at 2:00 p.m. PST. Entry to the Marina for the meeting will be through the Meeks Bay Resort, 7941 Emerald Bay Road, Meesk Bay, CA. Project documents, information on the public meeting, and additional supporting information will be posted to the project website http://www.fs.usda.gov/goto/ltbmu/meeksbayrestoration.

It is important that reviewers provide their comments at such times and in such manner that they are useful to the agency's preparation of the EIS. Therefore, comments should be provided prior to the close of the comment period and should clearly articulate the reviewer's concerns and contentions.

Comments received in response to this solicitation, including names and addresses of those who comment, will be part of the public record for this proposed action. Comments submitted anonymously will be accepted and considered, however.

Dated: August 28, 2018.
Chris French,
Associate Deputy Chief, National Forest System.

[FR Doc. 2018-19682 Filed 9-10-18; 8:45 am]

BILLING CODE 3411-15-P